RAILROAD RETIREMENT BOARD

Proposed Collection; Comment Request

SUMMARY: In accordance with the requirement of Section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; (d) ways to minimize the burden related to the collection of information on respondents, including the use of automated collection techniques or other forms of information technology.

Title and Purpose of information collection:

Medical Reports; OMB 3220-0038

Under Sections 2(a)(1)(iv), 2(a)(2) and 2(a)(3) of the Railroad Retirement Act (RRA), annuities are payable to qualified railroad employees whose physical or mental condition is such that they are unable to (1) work in their regular occupation (occupational disability); or (2) work at all (permanent total disability). The requirements for establishment of disability and proof of continuance of disability are prescribed in 20 CFR 220.

Under Sections 2(c) and 2(d) of the RRA, annuities are also payable to qualified spouses, widow(ers) who have in their care a qualified child who is under a disability which began before age 22; widow(ers) age 50-59 who are under a disability; and remarried widows and surviving divorced wives who would also be entitled under Sections 202(e) and 202(f) of the Social Security Act. For entitlement under Section 2(c), 2(d)(i), and 2(d)(iii) of the RRA, an individual is disabled if he/she is unable to engage in any regular employment. For entitlement under Section 2(d)(v) of the RRA, the individual must have an impairment which is so severe that, in accordance with the regulations of the Social Security Administration, any gainful activity would be precluded. The Railroad Retirement Board (RRB) also determines entitlement to a period of disability or early Medicare entitlement for qualified claimants. To enable the RRB to determine the eligibility of an applicant or annuitant for disability benefits under the RRA, the RRB requests supportive medical evidence from railroad employers, personal physicians, private hospitals and state agencies. The RRB currently utilizes Forms G-3EMP, G-250, G-250a, G-260, RL-11b, and RL-11d to obtain the necessary medical evidence. Completion is voluntary. One response is requested of each respondent.

Estimate of Respondent Burden
Form# | Annual responses | Time (min) | Burden (hrs)
G-3EMP | 600 | 10 | 100
G-250 | 12,000 | 37 | 7,400
G-250a | 12,000 | 20 | 4,000
G-260 | 100 | 25 | 42
RL-11b | 5,000 | 10 | 833
RL-11d | 250 | 10 | 42
Total | 29,950 |  | 12,417

Minor non-burden impacting cosmetic and reformatting changes are being proposed to Form RL-11d in the collection.

Additional Information or Comments: To request more information or to obtain a copy of the information collection justification, forms, and/or supporting material, please call the RRB Clearance Officer at (312) 751-3363. Comments regarding the information collection should be addressed to Ronald J. Hodapp, Railroad Retirement Board, 844 N. Rush Street, Chicago, Illinois 60611-2092. Written comments should be received within 60 days of this notice.

Chuck Mierzwa,
Clearance Officer.

[FR Doc. 02-13769 Filed 5-31-02; 8:45 am]

BILLING CODE 7905-01-M